ENVIRONMENTAL PROTECTION AGENCY

40 CFR Part 52

[EPA-R02-OAR-2016-0766; FRL-9965-79-Region 2]

Approval and Promulgation of Implementation Plans; Reasonably Available Control Technology for Oxides of Nitrogen for Specific Sources in the State of New Jersey

AGENCY: Environmental Protection Agency.

ACTION: Final rule.

SUMMARY: The Environmental Protection Agency (EPA) is announcing approval of two revisions to the State Implementation Plan (SIP) for ozone submitted by the State of New Jersey. This SIP revision consists of two source-specific reasonably available control technology (RACT) determinations for controlling oxides of nitrogen. One is for the Transcontinental Gas Pipeline Corp., LNG Station 240 located in Carlstadt, New Jersey and the other is for Joint Base McGuire-Dix-Lakehurst in Lakehurst, New Jersey. This action approves the source-specific RACT determinations that were made by New Jersey in accordance with the provisions of its regulation to help meet the national ambient air quality standard for ozone. The intended effect of this rule is to approve source-specific emissions limitations required by the Clean Air Act.

DATES: This rule is effective on September 11, 2017.

ADDRESSES: The EPA has established a docket for this action under Docket ID No. EPA-R02-OAR-2016-0766. All documents in the docket are listed on the www.regulations.gov Web site. Although listed in the index, some information is not publicly available, e.g., CBI or other information whose disclosure is restricted by statute. Certain other material, such as copyrighted material, is not placed on the Internet and will be publicly available only in hard copy form. Publicly available docket materials are available either electronically through www.regulations.gov, or please contact the person identified in the FOR FURTHER INFORMATION CONTACT section for additional availability information.

FOR FURTHER INFORMATION CONTACT: Anthony (Ted) Gardella, gardella.anthony@epa.gov at the United States Environmental Protection Agency, Air Programs Branch, 290 Broadway, 25th Floor, New York, New York 10007-1866, (212) 637-4249.

SUPPLEMENTARY INFORMATION:

I. What action is the EPA taking today?

The EPA is approving two source-specific State Implementation Plans (SIP) revisions for ozone submitted by the State of New Jersey. These SIP revisions relate to New Jersey's oxides of nitrogen (NOX) reasonably available control technology (RACT) determinations for the Transcontinental Gas Pipeline Corp., LNG Station 240 (Transco-240) located in Carlstadt, New Jersey in Bergen County and for Joint Base McGuire-Dix-Lakehurst (JB-MDL) located in Lakehurst, New Jersey in Ocean County. The determinations are for the four natural gas-fired water bath heaters (U7-U10) at the Transco-240 facility and the two natural gas-fired boilers (Nos. 2 and 3) at the JB-MDL facility. These SIP revisions were submitted to the EPA for approval by the New Jersey Department of Environmental Protection on July 1, 2014 and July 25, 2016 respectively.

II. What comments were received in response to EPA's proposed action?

On May 8, 2017 (82 FR 21343), the EPA proposed to approve New Jersey's two source-specific SIP revisions addressing NOX RACT requirements for the Transco-240 and the JB-MDL facilities. For a detailed discussion on the content and requirements of the revisions to New Jersey's two SIP revisions, the reader is referred to the EPA's proposed rulemaking action. In response to the EPA's May 8, 2017 proposed rulemaking action, the EPA received no public comments.

III. Conclusion

The EPA has determined that New Jersey's two SIP revision for the NOX RACT determinations for the affected sources at the Transco-240 and the JB-MDL facilities are consistent with New Jersey's NOX RACT regulation and the EPA's guidance. The EPA has determined that New Jersey's SIP revision will not interfere with any applicable requirement concerning attainment and reasonable further progress, or any other applicable requirement of the Clean Air Act. Therefore, the EPA is approving the NOX emission limits and other requirements identified in New Jersey's Conditions of Approval document and alternative emission limit compliance plan for Transco-240 and JB-MDL, respectively. The NOX RACT requirements specify emissions limits, work practice standards, testing, monitoring, and recordkeeping/reporting requirements. These conditions are consistent with the NOX RACT requirements specified in Subchapter 19 of Chapter 27, Title 7 of the New Jersey Administrative Code and conform to the EPA's NOX RACT guidance.

More specifically, the EPA approves the current Conditions of Approval document for the four water bath heaters (U7-U10) at the Transco-240 facility which includes the following limits:

1. The alternative NOX emission limit (AEL) from each water bath heater, while combusting natural gas, shall not exceed 0.10 pounds per million British Thermal Units (lb/MMBTU);

2. The total NOX emissions from all four water bath heaters, while combusting natural gas, shall not exceed 6.7 tons per year;

3. The hours of operation for the four natural gas-fired water bath heaters shall be for a combined total of 1600 hours per year or less;

4. The four water bath heaters shall not be operated during the ozone season; and,

5. The flue gas recirculation control system shall operate at all times the heater is operating.

Also, the EPA approves the alternate emission limit compliance plan for the two natural gas-fired boilers (Nos 2 and 3) at the JB-MDL facility which includes the following limits:

1. An alternative NOX emission limit of 0.10 lb/MMBTU for boiler #2 and boiler #3 pursuant to N.J.A.C. 7:27-19.13; and,

2. A decrease in natural gas use from 181.43 to 108.6 million cubic feet (MMft³) per year for boiler #2 and from 113.04 to 57 MMft³ per year for boiler #3.

IV. Incorporation by Reference

In this rule, EPA is finalizing regulatory text that includes incorporation by reference. In accordance with requirements of 1 CFR 51.5, EPA is finalizing the incorporation by reference of: “Conditions of Approval, Alternative Emission Limit for NOX For Four (4) Water Bath Heaters, Transcontinental Gas Pipelines Corp., LNG Station 240, 718 Paterson Plank Road, Carlstadt Borough, Program Interest No. 02626,” approved by New Jersey Department of Environmental Protection on June 12, 2014 and “Revision to the NJ State Implementation Plan for Joint Base McGuire-Dix-Lakehurst (JB-MDL), Lakehurst, NJ” including Enclosure 2 (“AEL Compliance Plan”) (dated July 14, 2016) to Attachment I (“Site-specific and source specific NOX RACT SIP Information for Joint Base McGuire-Dix-Lakehurst (JB-MDL) (Lakehurst), for Boiler Nos 2 and 3”), permit activity number of BOP150001, approved by New Jersey Department of Environmental Protection on August 26, 2016. The summary of emission limits and other enforceable requirements for the two SIP revisions are included in section III (Conclusion) of this rulemaking. Therefore, these materials have been approved by EPA for inclusion in the SIP, have been incorporated by reference by EPA into that plan, are fully federally enforceable under sections 110 and 113 of the CAA as of the effective date of the final rulemaking of EPA's approval, and will be incorporated by reference by the Director of the Federal Register in the next update to the SIP compilation. EPA has made, and will continue to make, these materials generally available through www.regulations.gov and/or at the EPA Region 2 Office (please contact the person identified in the FOR FURTHER INFORMATION CONTACT section of this preamble for more information).

V. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

Under section 307(b)(1) of the Clean Air Act, petitions for judicial review of this action must be filed in the United States Court of Appeals for the appropriate circuit by October 10, 2017. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2)).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804, however, exempts from section 801 the following types of rules: Rules of particular applicability; rules relating to agency management or personnel; and rules of agency organization, procedure, or practice that do not substantially affect the rights or obligations of non-agency parties. 5 U.S.C. 804(3). Because this is a rule of particular applicability, EPA is not required to submit a rule report regarding this action under section 801.

List of Subjects in 40 CFR Part 52

Environmental protection, Air pollution control, Incorporation by reference, Intergovernmental relations, Nitrogen dioxide, Ozone, Reporting and recordkeeping requirements.

Dated: July 25, 2017.
Catherine R. McCabe,
Acting Regional Administrator, Region 2.

Part 52, chapter I, title 40 of the Code of Federal Regulations is amended as follows:

PART 52—APPROVAL AND PROMULGATION OF IMPLEMENTATION PLANS

1. The authority citation for part 52 continues to read as follows:

Authority: 42 U.S.C. 7401 et seq.

Subpart FF—New Jersey

2. In § 52.1570, the table in paragraph (d) is amended by adding entries “Transcontinental Gas Pipelines Corp., LNG Station 240” and “Joint Base McGuire-Dix-Lakehurst (Lakehurst, NJ)” to the end of the table to read as follows:

§ 52.1570 Identification of plan.

* * * * *

(d) * * *

EPA-Approved New Jersey Source-Specific Provisions
Name of source | Identifier No. | State effective date | EPA approval date | Comments
* * * * * * *
Transcontinental Gas Pipelines Corp., LNG Station 240 | 02626 | June 12, 2014 | August 10, 2017 [insert Federal Register citation] August 10, 2017 [insert Federal Register citation] | Alternate NOX Emission Limit and other requirements pursuant to NJAC 7:27-19.13 for four natural gas-fired water bath heaters ((U7-U10).
Joint Base McGuire-Dix-Lakehurst (Lakehurst, NJ) | BOP15001 | August 26, 2016 |  | Alternate NOX Emission Limit and other requirements pursuant to NJAC 7:27-19.13 for two natural gas-fired boilers (Nos 2 and 3).

* * * * *

[FR Doc. 2017-16804 Filed 8-9-17; 8:45 am]

BILLING CODE 6560-50-P